DEPARTMENT OF TRANSPORTATION

Office of the Secretary

[(Order 2001-2-16) Docket OST-99-5948]

Application of Air Excursions, LLC for Issuance of New Certificate Authority

AGENCY: Department of Transportation.

ACTION: Notice of Order to Show Cause (Order 2001-2-16) Docket OST-99-5948.

SUMMARY: The Department of Transportation is directing all interested persons to show cause why it should not issue an order finding Air Excursions, LLC fit, willing, and able and awarding it a certificate of public convenience and necessity to engage in interstate air transportation of persons, property and mail as a certificated air carrier.

RESPONSES: Objections and answers to objections should be filed in Docket OST-99-5948 and addressed to the Department of Transportation Dockets, PL-401, 400 Seventh Street, SW., Washington, DC 20590, and should be served on all persons listed in Attachment A to the order. Persons wishing to file objections should do so no later than March 2, 2001.

FOR FURTHER INFORMATION CONTACT: Mr. James Lawyer, Air Carrier Fitness Division (X-56, Room 6401), US Department of Transportation, 400 Seventh Street, SW., Washington, DC 20590, (202) 366-1064.

Dated: February 20, 2001.
Susan E. McDermott,
Deputy Assistant Secretary for Aviation and International Affairs.

[FR Doc. 01-4672 Filed 2-23-01; 8:45 am]

BILLING CODE 4910-62-M